DEPARTMENT OF COMMERCE

Foreign-Trade Zones Board

[Docket 4-2007]

Foreign-Trade Zone 121 - Albany, New York, Application for Subzone, MPM Silicones, LLC, Notice of Public Hearing and Extension of Comment Period

Pursuant to a timely request from a directly affected party showing good cause (15 CFR § 400.51(b)), a public hearing will be held on the application for subzone status at the MPM Silicones, LLC, facility in Waterford, New York, submitted by the Capital District Regional Planning Commission, grantee of Foreign-Trade Zone 121 (72 FR 6518, 2/12/07). The public hearing will take place on April 18, 2007 at 2:00 pm, at the U.S. Department of Commerce, Room 4830, 1401 Constitution Ave., NW, Washington, DC. Interested parties should indicate their intent to participate in the hearing and provide a summary of their remarks no later than April 16, 2007 (see submission address below).

Pursuant to 15 CFR § 400.27(c)(2), the comment period for this case is being extended to May 3, 2007. Rebuttal comments may be submitted during the subsequent 15-day period, until May 18, 2007. Submissions (original and 3 copies) shall be addressed to the Foreign-Trade Zones Board's Executive Secretary at: Foreign-Trade Zones Board, U.S. Department of Commerce, Room 2814B, 1401 Constitution Ave., NW, Washington, DC 20230.

For further information, contact Elizabeth Whiteman at Elizabeth_Whiteman@ita.doc.gov or (202) 482-0473.

Dated: March 30, 2007.
Andrew McGilvray,
Executive Secretary.

[FR Doc. E7-6408 Filed 4-4-07; 8:45 am]

BILLING CODE 3510-DS-S